FEDERAL TRADE COMMISSION

Agency Information Collection Activities; Proposed Collection; Comment Request; Extension

AGENCY: Federal Trade Commission.

ACTION: Notice.

SUMMARY: In accordance with the Paperwork Reduction Act of 1995 (PRA), the Federal Trade Commission (FTC or Commission) is seeking public comment on its proposal to extend for an additional three years the current Paperwork Reduction Act (PRA) clearance for its rule governing Care Labeling of Textile Wearing Apparel and Certain Piece Goods As Amended (“Care Labeling Rule”). This clearance expires on June 30, 2024.

DATES: Comments must be filed by July 22, 2024.

ADDRESSES: Interested parties may file a comment online or on paper, by following the instructions in the Request for Comment part of the SUPPLEMENTARY INFORMATION section below. Written comments and recommendations for the proposed information collection should be sent within 30 days of publication of this notice to www.reginfo.gov/public/do/PRAMain. Find this particular information collection by selecting “Currently under 30-day Review—Open for Public Comments” or by using the search function. The reginfo.gov web link is a United States Government website produced by the Office of Management and Budget (OMB) and the General Services Administration (GSA). Under PRA requirements, OMB's Office of Information and Regulatory Affairs (OIRA) reviews Federal information collections.

FOR FURTHER INFORMATION CONTACT: Jock Chung, Attorney, Division of Enforcement, Bureau of Consumer Protection, Federal Trade Commission, (202) 326-2984, jchung@ftc.gov.

SUPPLEMENTARY INFORMATION:

Title: The Care Labeling of Textile Wearing Apparel and Certain Piece Goods As Amended (Care Labeling Rule), 16 CFR part 423.

OMB Control Number: 3084-0103.

Type of Review: Extension of a currently approved collection.

Estimated Annual Hours Burden: 27,489,476 hours.

Likely Respondents: Manufacturers or importers of textile apparel.

Frequency of Response: Third party disclosure.

Estimated Annual Cost Burden: $219,678,246 (solely relating to labor costs).¹

¹ This is a slight increase over the estimate of $217,189,935.52 set out within the prior 60-Day Federal Register notice. The current estimate relies upon Bureau of Labor Statistics information released on April 3, 2024, which can be found at https://www.bls.gov/news.release/ocwage.htm.

Abstract: The Care Labeling Rule requires manufacturers and importers to attach a permanent care label to all covered textile clothing in order to assist consumers in making purchase decisions and in determining what method to use to clean their apparel. Also, manufacturers and importers of piece goods used to make textile clothing must provide the same care information on the end of each bolt or roll of fabric.

On April 10, 2024, the Commission sought comment on the information collection requirements in the Care Labeling Rule. 89 FR 25266. No germane comments were received.² As required by OMB regulations, 5 CFR part 1320, the FTC is providing this second opportunity for public comment.

² The American Apparel & Footwear Association submitted a comment proposing amendments to the Rule. This comment was not germane because it did not address the current estimates of annual hours of burden or costs imposed by the Rule.

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2024-13487 Filed 6-18-24; 8:45 am]

BILLING CODE 6750-01-P